FEDERAL COMMUNICATIONS COMMISSION

Federal-State Joint Conference on Advanced Services Field Hearing Schedule

AGENCY: Federal Communications Commission.

ACTION: Announcement of meetings.

SUMMARY: The Federal-State Joint Conference on Advanced Telecommunications Services (Joint Conference) was convened by the FCC on October 8, 1999 to further the vision of Section 706 of the Telecommunications Act of 1996. Patterned on a resolution by the National Association of Regulatory Utility Commissioners (NARUC), the Joint Conference joins federal and state forces to encourage the deployment of advanced telecommunications services to all Americans. Part of the Joint Conference's mission is to gather information on the deployment of advanced services. To this end, the Joint Conference will hold six field hearings in coming months to gather information on the status of deployment of advanced telecommunications capability to all Americans.

DATES: See SUPPLEMENTARY INFORMATION section for hearing dates.

ADDRESSES: See SUPPLEMENTARY INFORMATION section for hearing addresses.

FOR FURTHER INFORMATION CONTACT: Emily Hoffnar (202) 418-0940 TTY: (202) 418-0484.

SUPPLEMENTARY INFORMATION: These field hearings will focus on two goals in particular. First, the Joint Conference will seek information on what extent data is available at the state level on the status of deployment of advanced services. Second, the Joint Conference will seek examples of “best practices” of successful deployment in communities. Some communities have found creative ways to bring high speed Internet access to areas that were previously underserved. For example, a community may speed deployment by bringing many potential users of advanced services together, thereby aggregating demand to increase their buying power. A compilation of creative efforts, or best practices, will provide guidance to communities in other states to speed deployment of advanced services.

Transcripts of each field hearing will be made available to the public as soon as possible after each field hearing.

Meeting of Joint Conference and Initial Hearing

• Washington, DC, March 8, 2000, time to be determined.

• Joint Conference Hosts: FCC Chairman William Kennard and Chair of the Regulatory Commission of Alaska, Nanette Thompson.

• All FCC and State Commissioners will attend the first field hearing in Washington, DC, as their schedules permit.

• Special focus on broadband deployment in inner cities.

Western Regional Field Hearing

• Anchorage, Alaska, April 17, 2000, time to be determined.

• Joint Conference Hosts: FCC Commissioner Susan Ness and Chair of the Regulatory Commission of Alaska, Nanette Thompson.

• Special focus on the relationship between advanced services deployment and economic development, satellite deployment.

Midwestern Regional Field Hearing

• South Sioux City, Nebraska, April 19, 2000, time to be determined.

• Joint Conference Hosts: FCC Chairman William Kennard and Chair of the North Carolina Utilities Commission, Jo Anne Sanford.

• Special focus on cable and fixed wireless deployment and deployment in rural areas.

Northeastern Regional Field Hearing

• Lowell, Massachusetts, May 22, 2000, time to be determined.

• Joint Conference Hosts: FCC Commissioner Michael Powell and Public Utility Commission of Texas Commissioner Brett Perlman.

• Special focus on public/private partnerships, deployment in remote areas, and data gathering initiatives.

Gulf States and Southeast Regional Field Hearing

• Miami, Florida, June 9, 2000, time to be determined.

• Joint Conference Hosts: FCC Commissioner Gloria Tristani, Louisiana Public Service Commission, Chair Irma Muse Dixon, North Carolina Utilities Commission Chair, Jo Anne Sanford, and Public Utility Commission of Texas Commissioner, Brett Perlman.

• Special focus on deployment to rural and urban multicultural communities, fixed wireless deployment, and public/private partnerships.

Mountain West Regional Field Hearing

• Cheyenne, Wyoming, June 23, 2000, time to be determined.

• Joint Conference Hosts: FCC Commissioner Harold Furchtgott-Roth and Wyoming Public Service Commission Deputy Chair Steven Furtney.

• Special focus on speeding deployment via community demand aggregation, deployment in rural areas and Indian Territory, data gathering initiatives.

Further information about the Joint Conference can be found on its web site: www.fcc.gov/jointconference.

Dated: March 2, 2000.
Magalie Roman Salas,
Secretary.

[FR Doc. 00-5451 Filed 3-3-00; 8:45 am]

BILLING CODE 6712-01-P